DEPARTMENT OF THE INTERIOR

Bureau of Land Management

[LLMTM01000-L14300000.ET0000; MTM 89170]

Notice of Proposed Withdrawal Extension and Opportunity for Public Meeting; Montana

AGENCY: Bureau of Land Management, Interior.

ACTION: Notice.

SUMMARY: The Assistant Secretary of the Interior for Land and Minerals Management proposes to extend the duration of Public Land Order (PLO) No. 7464, as extended by PLO 7643, for an additional 5-year term. This PLO withdrew 3,530.62 acres of public land in Phillips County, Montana, from settlement, sale, location, or entry under the general land laws, including the mining laws, to protect the reclamation of the Zortman-Landusky mining area. The withdrawal created by Public Land Order No. 7464, as extended, will expire on October 4, 2010, unless extended. This notice also gives an opportunity to comment on the proposed action and to request a public meeting.

DATES: Comments and requests for a public meeting must be received by September 30, 2010.

ADDRESSES: Comments and meeting requests should be sent to the Montana State Director, BLM, 5001 Southgate Drive, Billings, Montana 59101-4669.

FOR FURTHER INFORMATION CONTACT: Micah Lee, Malta Field Office, 406-262-2851, or Sandra Ward, BLM Montana State Office, 406-896-5052.

SUPPLEMENTARY INFORMATION: The Bureau of Land Management (BLM) has filed an application to extend the duration of the withdrawal established by Public Land Order No. 7464 (65 FR 59463 (2000)), which withdrew 3,530.62 acres of public land in Phillips County, Montana, from settlement, sale, location, or entry under the general land laws, including the United States mining laws, for an additional 5-year term, subject to valid existing rights. PLO 7464 is incorporated herein by reference.

The purpose of the proposed extension is to continue the protection of the reclamation of the Zortman and Landusky mining area.

The use of a right-of-way, interagency agreement, or cooperative agreement would not provide adequate protection.

There are no suitable alternative sites available where the withdrawal would facilitate mine reclamation since the location of the mines and necessary reclamation materials are fixed.

No water rights will be needed to fulfill the purpose of the requested withdrawal.

All persons who wish to submit comments, suggestions, or objections in connection with the proposed withdrawal may present their views in writing to the BLM Montana State Director by September 30, 2010, at the address above.

Comments, including names and street addresses of respondents, and records relating to the application will be available for public review at the Malta Field Office, 501 South 2nd Street East, HC 65, Box 5000, Malta, Montana 59538-0047, during regular business hours.

Individual respondents may request confidentiality. Before including your address, phone number, e-mail address, or other personal identifying information in your comment, be advised that your entire comment—including your personal identifying information—may be made publicly available at any time. While you can ask in your comment to withhold from public review your personal identifying information, we cannot guarantee that we will be able to do so.

Notice is hereby given that an opportunity for a public meeting is afforded in connection with the proposed withdrawal extension. All interested persons who desire a public meeting for the purpose of being heard on the proposed withdrawal extension must submit a written request to the BLM Montana State Director at the address above by September 30, 2010. Upon determination by the authorized officer that a public meeting will be held, a notice of the time and place will be published in the Federal Register and in at least one local newspaper not less than 30 days before the scheduled date of the meeting.

This application will be processed in accordance with the regulations set forth in 43 CFR 2310.4.

(Authority: 43 CFR 2310.3-1)

Dated: June 28, 2010.
Cynthia Staszak,
Chief, Branch of Land Resources.

[FR Doc. 2010-16347 Filed 6-30-10; 4:15 pm]

BILLING CODE 4310-DN-P